DEPARTMENT OF LABOR

Office of the Secretary

Agency Information Collection Activities; Submission for OMB Review; Comment Request; Senior Community Service Employment Program Performance Measurement System

ACTION: Notice.

SUMMARY: On March 31, 2015, the Department of Labor (DOL) will submit the Employment and Training Administration (ETA) sponsored information collection request (ICR) revision titled, “Senior Community Service Employment Program Performance Measurement System,” to the Office of Management and Budget (OMB) for review and approval for use in accordance with the Paperwork Reduction Act (PRA) of 1995 (44 U.S.C. 3501 et seq.). Public comments on the ICR are invited.

DATES: The OMB will consider all written comments that agency receives on or before April 30, 2015.

ADDRESSES: A copy of this ICR with applicable supporting documentation; including a description of the likely respondents, proposed frequency of response, and estimated total burden may be obtained free of charge from the RegInfo.gov Web site at http://www.reginfo.gov/public/do/PRAViewICR?ref_nbr=201411-1205-004 (this link will only become active on April 1, 2015) or by contacting Michel Smyth by telephone at 202-693-4129, TTY 202-693-8064, (these are not toll-free numbers) or sending an email to DOL_PRA_PUBLIC@dol.gov.

Submit comments about this request by mail or courier to the Office of Information and Regulatory Affairs, Attn: OMB Desk Officer for DOL-ETA, Office of Management and Budget, Room 10235, 725 17th Street NW., Washington, DC 20503; by Fax: 202-395-5806 (this is not a toll-free number); or by email: OIRA_submission@omb.eop.gov. Commenters are encouraged, but not required, to send a courtesy copy of any comments by mail or courier to the U.S. Department of Labor—OASAM, Office of the Chief Information Officer, Attn: Departmental Information Compliance Management Program, Room N1301, 200 Constitution Avenue NW., Washington, DC 20210; or by email: DOL_PRA_PUBLIC@dol.gov.

FOR FURTHER INFORMATION CONTACT: Contact Michel Smyth by telephone at 202-693-4129, TTY 202-693-8064, (these are not toll-free numbers) or sending an email to DOL_PRA_PUBLIC@dol.gov.

Authority: 44 U.S.C. 3507(a)(1)(D).

SUPPLEMENTARY INFORMATION: This ICR seeks approval under the PRA for revisions to the Senior Community Service Employment Program (SCSEP) Performance Measurement System—Reporting Forms ETA-9120, Participant Data; ETA-9121, Community Service Assignment; ETA-9122, Unsubsidized Employment; ETA-9123, Exit; ETA-9124 Part A, Participant Customer Satisfaction; ETA-9124 Part B, Host Agency Customer Satisfaction; ETA-9124 Part C, Employer Customer Satisfaction; and ETA-8705, State Equitable Distribution Report. The SCSEP Performance Measurement System has six core indicators of performance: (1) Aggregate hours of community service provided compared to the number of hours funded by the grant; (2) entry into unsubsidized employment; (3) retention in unsubsidized employment for six months; (4) average earnings; (5) number of eligible individuals served compared to the number of positions funded; and (6) average number of most-in-need barriers of the individuals served. Additional indicators of performance include: (1) Retention in unsubsidized employment for one (1) year; (2) satisfaction of the participants, employers, and host agencies with their experiences and the services provided; and (3) exiting participants who enter volunteer work. This information collection has been classified as a revision, because (1) of changes that will provide additional data fields to grantees that have received awards in PY 2013 under a limited competition for pilot grants; (2) the ETA is introducing a quarterly narrative report to standardize the quarterly submission; (3) of changes to the Equitable Distribution Report to reflect that all of the data required for an analysis equitable distribution of resources is now provided to grantees on SCSEPED.org; and (4) additional questions to each of the customer satisfaction surveys. Older Americans Act section 513(f) authorizes this information collection. See 42 U.S.C. 3056(f).

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1205-0040. The current approval is scheduled to expire on March 31, 2015; however, the DOL notes that existing information collection requirements submitted to the OMB receive a month-to-month extension while they undergo review. New requirements would only take effect upon OMB approval. For additional substantive information about this ICR, see the related notice published in the Federal Register on November 5, 2014 (79 FR 65705).

Interested parties are encouraged to send comments to the OMB, Office of Information and Regulatory Affairs at the address shown in the ADDRESSES section by April 30, 2015. In order to help ensure appropriate consideration, comments should mention OMB Control Number 1205-0040. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Title of Collection: Senior Community Service Employment Program Performance Measurement System.

OMB Control Number: 1205-0040.

Affected Public: Individuals or Households; State, Local, and Tribal Governments; and Private Sector—businesses or other for profits and not-for-profit institutions.

Total Estimated Number of Respondents: 22,128.

Total Estimated Number of Responses: 232,520.

Total Estimated Annual Time Burden: 32,922 hours.

Total Estimated Annual Other Costs Burden: $0.

Dated: March 23, 2015.
Michel Smyth,
Departmental Clearance Officer.

[FR Doc. 2015-07025 Filed 3-26-15; 8:45 am]

BILLING CODE 4510-FN-P